DEPARTMENT OF ENERGY

Federal Energy Regulatory Commission

Combined Notice of Filings

Take notice that the Commission has received the following Part 284 Natural Gas Pipeline Rate filings:

Docket Number: PR20-45-000.

Applicants: NorthWestern Corporation.

Description: Tariff filing per 284.123(b),(e)/: Revised Transportation & Storage Rates (Tax & Gas Trackers) to be effective 1/1/2020.

Filed Date: 3/18/2020.

Accession Number: 20200318-5115.

Comments/Protests Due: 5 p.m. ET 4/8/2020.

Docket Number: RP15-1022-015.

Applicants: Alliance Pipeline L.P.

Description: Alliance Pipeline L.P. submits tariff filing per 154.203: ALP Request to amend the Settlement.

Filed Date: 3/18/2020.

Accession Number: 20200318-5140.

Comments/Protests Due: 5 p.m. ET 3/23/2020.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 19, 2020.
Nathaniel J. Davis, Sr.,
Deputy Secretary.

[FR Doc. 2020-06230 Filed 3-24-20; 8:45 am]

BILLING CODE 6717-01-P